DEPARTMENT OF ENERGY

Federal Energy Regulatory Commission

[Project No. 3230-010]

Chasm Hydro Partnership; Ampersand Chasm Falls Hydro LLC; Notice of Transfer of Exemption

1. By letter filed March 3, 2015, Ampersand Chasm Falls Hydro LLC informed the Commission that the exemption from licensing for the Chateaugay Chasm Project, FERC No. 3230, originally issued June 15, 1981,¹ has been transferred to Ampersand Chasm Falls Hydro LLC. The project is located on the Chateaugay River in Franklin County, New York. The transfer of an exemption does not require Commission approval.

¹ 15 FERC ¶ 62,339, Order Granting Exemption from Licensing of a Small Hydroelectric Project of 5 Megawatts or Less (1981).

2. Ampersand Chasm Falls Hydro LLC is now the exemptee of the Chateaugay Chasm Project, FERC No. 3230. All correspondence should be forwarded to: Ian Chow, Project Manager, Ampersand Chasm Falls Hydro LLC, 717 Atlantic Avenue, Suite 1A, Boston, MA 02111.

Dated: June 3, 2015.
Kimberly D. Bose,
Secretary.

[FR Doc. 2015-14107 Filed 6-9-15; 8:45 am]

BILLING CODE 6717-01-P